DEPARTMENT OF LABOR

Office of the Secretary

Submission for OMB Review; Comment Request

December 18, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), on or before February 5, 2001.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submittion of responses.

Type of Review: Extension of a currently approved collection.

Agency: Employment Standards Administration (ESA).

Title: Application for Farm Labor Contractor or Farm Labor Contractor Employee Certificates of Registration.

OMB Number: 1215-0037.

Affected Public: Individuals or households; Business or other for-profit; and Farms.

Frequency: On occasion; Annually; and Biennially.

Number of Respondents: 9,200.

Number of Annual Responses: 9,200.

Estimated Time Per Response: 30 minutes.

Total Burden Hours: 4,600.

Total Annualized Capital/Startup Costs: $0.

Total Annual Costs (operating/maintaining sytstems or purchasing services): $2,153.

Description: The Migrant and Seasonal Agricultural Worker Protection Act provides that no individual may perform farm labor contracting activities without a certificate of registration. Form WH-530 is the application form that provides the Department of Labor with the information necessary to issue certificates specifying the farm labor contracting activities authorized.

Ira L. Mills,
Departmental Clearance Officer.

[FR Doc. 01-326 Filed 1-4-01; 8:45 am]

BILLING CODE 4510-27-M